DEPARTMENT OF TRANSPORTATION

Federal Aviation Administration

14 CFR Part 71

RIN 2120-AA66

[Docket No. FAA-2003-15978; Airspace Docket No. 03-AAL-14]

Establishment of Jet Routes 618 and 623, and Revocation of Jet Routes 600 and 601; AK

AGENCY: Federal Aviation Administration (FAA), DOT.

ACTION: Final rule.

SUMMARY: This action changes the designation of Jet Routes 600 and 601 (J-600 and J-601) to J-618 and J-623. Currently, there are two jet routes in Canada with the same designation of J-600 and J-601, which is creating continuous data processing problems and confusion. This action will eliminate the dual designation of the jet route numbers. There are no changes to any of the existing route alignments, radials, or altitudes. This action will enhance safety by eliminating the likelihood of flight plan processing problems.

EFFECTIVE DATES: 0901 UTC, October 30, 2003.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

History

The FAA has identified a duplication in jet route number designations in Canada and the U.S. The jet routes, J-600 and J-601, have caused repeated route validation problems in flight plan processing. By changing the U.S. designations of J-600 and J-601 to J-618 and J-623, the FAA will eliminate any confusion between Canada and the U.S. jet routes.

The Rule

This action amends Title 14 Code of Federal Regulations (14 CFR) part 71 (part 71) by changing the designation of J-600 and J-601 to J-618 and J-623. There are no changes to any of the existing route alignments, radials, or altitudes. This action will enhance safety by eliminating the likelihood of flight plan processing problems, and reduce controller workload. Because this action is needed for safety reasons, the FAA finds that notice and public comment under 5 U.S.C. 552(b) is impracticable and contrary to public interest.

Jet routes are published in paragraph 2004, of FAA Order 7400.9K dated August 30, 2002, and effective September 16, 2002, which is incorporated by reference in 14 CFR 71.1. The jet routes listed in this document would be published subsequently in the order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034, February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

Environmental Review

The FAA has determined that this action is not subject to environmental assessments and procedures in accordance with FAA Order 1050.1D, Policies and Procedures for Considering Environmental Impacts, and the National Environmental Policy Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9K, Airspace Designations and Reporting Points, dated August 30, 2002, and effective September 16, 2002, is amended as follows:

Paragraph 2004 Jet Routes

* * * * *

J-600 [Revoke]

J-601 [Revoke]

* * * * *

J-618 [New]

From Mt. Moffett, AK, NDB; to Elfee, AK, NDB.

* * * * *

J-623 [New]

From Port Heiden NDB; Cold Bay, AK; INT Dutch Harbor, AK, NDB, 006° and St. Paul Island, AK, NDB, 111° radials; to St. Paul Island, NDB.

* * * * *

Issued in Washington, DC, August 20, 2003.
Reginald C. Matthews,
Manager, Airspace and Rules Division.

[FR Doc. 03-22043 Filed 8-27-03; 8:45 am]

BILLING CODE 4910-13-P